DEPARTMENT OF ENERGY

Forest Products Visions of the Future

AGENCY: Idaho Operations Office, Department of Energy.

ACTION: Notice of availability of solicitation number DE-PS07-02ID14271.

SUMMARY: The American Forest and Paper Association in cooperation with the U.S. Department of Energy, is seeking applications for cost-shared research and development of technologies, which will reduce energy consumption, enhance economic competitiveness, and reduce environmental impacts of the Forest Products Industry. The research is to address research priorities in the higher value through sustainable forestry, gasification, fiber modification and VOC and HAP emission technology areas.

DATES: The deadline for receipt of applications is 5 p.m. EST on April 15, 2002.

ADDRESSES: Applications should be submitted to: David Friedman, American Forest and Paper Association, 1111 19th Street, NW., Suite 800, Washington, DC 20036.

FOR FURTHER INFORMATION CONTACT: Carol Van Lente, Contract Specialist, at vanlencl@id.doe.gov.

SUPPLEMENTARY INFORMATION: The statutory authority for this program is the Federal Non-Nuclear Energy Research & Development Act of 1974 (P.L. 93-577). Approximately $2,000,000 in federal funds is expected to be available to fund the first year of selected research efforts. DOE anticipates making three cooperative agreement awards each being $500,000 to $700,000 per year with a duration of three to five years. Collaborations between industry, university, and National Laboratory participants are encouraged. The solicitation is available in full text via the Internet at the following address: http://www.oit.doe.gov/cfm/fullSolicitation.cfm/id=123.

Issued in Idaho Falls on December 10, 2001.
R.J. Hoyles,
Director, Procurement Services Division.

[FR Doc. 01-30981 Filed 12-14-01; 8:45 am]

BILLING CODE 6450-01-P